NUCLEAR REGULATORY COMMISSION

Advisory Committee on the Medical Uses of Isotopes: Meeting Notice

AGENCY: U.S. Nuclear Regulatory Commission.

ACTION: Notice of Meeting.

SUMMARY: The U.S. Nuclear Regulatory Commission will convene a teleconference meeting of the Advisory Committee on the Medical Uses of Isotopes (ACMUI) on January 22, 2009, to discuss a subcommittee recommendation for individuals to achieve Authorized User status via a board certification pathway when a gap exists between the completion of training and experience and issuance of the board certificate. A copy of the agenda for the meeting will be available at http://www.nrc.gov/reading-rm/doc-collections/acmui/agenda or by contacting Ms. Ashley Tull using the information below.

DATES: The teleconference meeting will be held on Thursday, January 22, 2009, from 1 p.m. to 3 p.m. Eastern Standard Time.

Public Participation: Any member of the public who wishes to participate in the teleconference discussion should contact Ms. Tull using the contact information below.

Contact Information: Ashley M. Tull, e-mail: ashley.tull@nrc.gov, telephone: (240) 888-7129.

Conduct of the Meeting

Leon S. Malmud, M.D., will chair the meeting. Dr. Malmud will conduct the meeting in a manner that will facilitate the orderly conduct of business. The following procedures apply to public participation in the meeting:

1. Persons who wish to provide a written statement should submit an electronic copy to Ms. Tull at the contact information listed above. All submittals must be received by January 19, 2009, and must pertain to the topic on the agenda for the meeting.

2. Questions and comments from members of the public will be permitted during the meeting, at the discretion of the Chairman.

3. The transcript will be available on the ACMUI's Web site (http://www.nrc.gov/reading-rm/doc-collections/acmui/tr/) on or about February 23, 2009. A meeting summary will be available on or about March 6, 2009.

This meeting will be held in accordance with the Atomic Energy Act of 1954, as amended (primarily Section 161a); the Federal Advisory Committee Act (5 U.S.C. App); and the Commission's regulations in Title 10, U.S. Code of Federal Regulations, Part 7.

Dated: December 19, 2008.
Annette L. Vietti-Cook,
Secretary of the Commission.

[FR Doc. E8-30658 Filed 12-23-08; 8:45 am]

BILLING CODE 7590-01-P